NATIONAL FOUNDATION ON THE ARTS AND THE HUMANITIES

National Endowment for the Arts

Subject 30-Day Notice for the “CARES Act Funding Survey”

AGENCY: National Endowment for the Arts, National Foundation on the Arts and the Humanities.

ACTION: Notice.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the NEA is soliciting comments concerning the proposed information collection for the CARES Act Funding Survey for state arts agencies. Copies of this ICR, with applicable supporting documentation, may be obtained by visiting www.Reginfo.gov

DATES: Written comments must be submitted to the office listed in the address section below within 30 days from the date of this publication in the Federal Register.

ADDRESSES: Written comments and recommendations for proposed information collection requests should be sent within 30 days of publication of this Notice to www.reginfo.gov/public/do/PRAMain. Find this particular information collection request by selecting “National Endowment for the Arts” under “Currently Under Review;” then check “Only Show ICR for Public Comment” checkbox. Once you have found this information collection request, select “Comment,” and enter or upload your comment and information. Alternatively, comments can be sent to the Office of Information and Regulatory Affairs, Attn: OMB Desk Officer for the National Endowment for the Arts, Office of Management and Budget, Room 10235, Washington, DC 20503, or call (202) 395-7316, within 30 days from the date of this publication in the Federal Register.

SUPPLEMENTARY INFORMATION: The NEA is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: National Endowment for the Arts.

Title: CARES Act Funding Survey.

OMB Number: New.

Frequency: One-time web survey.

Affected Public: State art agency staff members.

Estimated Number of Respondents: 62.

Total Burden Hours: 279 hours (62 responses, average of 4.5 hours).

Total annualized capital/startup costs: 0.

Total annual costs (operating/maintaining systems or purchasing services): $45,000 (one-time costs).

The planned data collection is a new information collection request, and the data to be collected are not available elsewhere unless obtained through this information collection. A web-based survey of state arts agencies and regional arts organizations is planned to be administered once during summer 2021, contingent upon OMB approval. Knowledge gained through this information collection will enable the Arts Endowment to collect information on emergency relief funding provided by the Coronavirus Aid, Relief, and Economic Security Act (CARES Act) to state-level and regional subgrantees from the Arts Endowment. Currently, the Arts Endowment does not collect any information from state arts agencies or regional arts organizations related to the benefits of the CARES Act funding awarded to states and regions.

The National Endowment for the Arts is compelled by Congress to obligate 40 percent of its program budget to state arts agencies and regional arts organizations through Partnership Agreements (20 U.S.C. 954(g)). In turn, state arts agencies and regional arts organizations use these funds to support state and regional grantmaking and other programming, “developing projects and productions in the arts in such a manner as will furnish adequate programs, facilities, and services in the arts to all the people and communities in each of the several States.” (20 U.S.C. 954. (g)(1)). For regular Partnership Agreements, states, jurisdictions and regions are required to report subgrantee data to the National Endowment for the Arts.

As part of the stimulus package passed by Congress in April 2020, the CARES Act appropriated $75 million to the Arts Endowment for emergency relief. 40 percent of these funds were directed to state arts agencies and regional arts organizations to be distributed for emergency grantmaking. After the National Assembly of State Arts Agencies (NASAA) conducted a listening session on June 24, 2020 with executive directors of state arts agencies, based on OMB guidance to federal agencies in administering and implementing relief funding, the administration emphasized minimal burden to expedite implementing funding decisions, which gave agencies leeway in determining appropriate transparency and accountability mechanisms.

With this guidance, the National Endowment for the Arts determined that there would be no additional reporting requirements associated with these emergency funds in order to minimize burdens of during the pandemic. CARES funds were administered to state arts agencies and regional art organizations via amendments to FY 2019 partnership agreements, which are reported to the Arts Endowment annually in Final Descriptive Reports (OMB Control Number 3135-0140). However, Final Descriptive Reports do not contain data describing jobs and facility or infrastructure investments, which were the primary purpose of CARES Act dollars to state arts agencies. In an effort to understand the benefits and outcomes of emergency relief funds going to the 56 states and jurisdictions, and six regions, the Arts Endowment partnered with NASAA to survey state arts agencies and regional arts organizations to collect data on the how subgrantees used CARES Act funding.

The NEA intends to examine the outcomes of CARES Act funding on subgrantees of state arts agencies and regional arts organizations to understand how these funds were used to support arts organizations and benefit the public.

The Arts Endowment's Office of Research & Analysis decided to survey state arts agencies and regional arts organizations because it would fill a gap in knowledge of the 40 percent of CARES Act funding allocated to states and regions. The questions in the survey will capture the jobs subgrantees were able to maintain or create, and the amount invested in infrastructure, as a result of CARES Act emergency relief. The survey will also provide an opportunity to share any additional qualitative or quantitative subgrantee data related to CARES Act funding that state arts agencies have collected.

NASAA will report the survey data to the public in the aggregate and the Arts Endowment will include an analysis of subgrantee data along with direct grantee data to understand and track outcomes on CARES Act funding. The primary indicators will be the number of jobs created or maintained by grantees and subgrantees (full time and part time), and the facilities/infrastructure supported with CARES Act dollars.

This request is for a full clearance to conduct a web survey.

Dated: June 2, 2021.
Meghan Jugder,
Support Services Specialist, Office of Administrative Services & Contracts National Endowment for the Arts.

[FR Doc. 2021-11901 Filed 6-7-21; 8:45 am]

BILLING CODE 7537-01-P